DEPARTMENT OF DEFENSE

Office of the Secretary

[Docket ID: DOD-2020-OS-0034]

Proposed Collection; Comment Request

AGENCY: Office of the Secretary of Defense, DoD.

ACTION: Information collection notice.

SUMMARY: In compliance with the Paperwork Reduction Act of 1995, the Office of the Chief Management Officer, Washington Headquarters Services (WHS) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 26, 2020.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Ms. Angela James at the Department of Defense, Washington Headquarters Services, ATTN: Executive Services Directorate, Directives Division, 4800 Mark Center Drive, Suite 03F09-09, Alexandria, VA 22350-3100 or call 571-372-7574.

SUPPLEMENTARY INFORMATION: Title; Associated Form; and OMB Number: Regular Generic Clearance for the Collection of Focus Groups, Usability Studies, Preliminary and Formative Research, Routine Reports and Survey Testing; OMB Control Number 0704-XXXX.

Needs and Uses: The proposed information collection activity provides a means to gather data science, conduct qualitative analysis, statistical experiments, program evaluation, test development, and forecasting in an efficient, timely manner in order to improve and monitor DoD programs and policies that impact the general public. These collections will provide insights into existing programs and support the construction of new studies and programs. In accordance with the Executive Services Directorate commitment to be the preeminent provider of knowledge managements services to the warfighter, Department and throughout the Federal government, these collections will allow for ongoing collaborative and actionable communications between the Agency and its customers and stakeholders. The information collected will contribute directly to the improvement of program management, surveys, studies and research.

The information collections will be used to plan and design surveys, conduct initial testing, and. The collections will not raise substantive policy issues, issues of significant concern to other agencies, be used to make high-level policy or resource allocation decisions or involve potentially controversial topics. Date collected will not be generalized to the overall population. However, the collections will be low-burden, may involve the use of statistical rigor, and may publish their results. The participation of respondents will be voluntary and Personally Identifiable Information (PII) is collected only to the extent necessary and is not retained.

Affected Public: Business or other for-profit; individuals or households.

Annual Burden Hours: 300,000.

Number of Respondents: 300,000.

Responses per Respondent: 1.

Annual Responses: 300,000.

Average Burden per Response: 10 minutes.

Frequency: On occasion.

Dated: March 24, 2020.
Aaron T. Siegel,
Alternate OSD Federal Register, Liaison Officer, Department of Defense.

[FR Doc. 2020-06454 Filed 3-26-20; 8:45 am]

BILLING CODE 5001-06-P